DEPARTMENT OF HEALTH AND HUMAN SERVICES

National Institutes of Health

National Institute of Diabetes and Digestive and Kidney Diseases; Amended Notice of Meeting

Notice is hereby given of a change in the meeting of the National Institute of Diabetes and Digestive and Kidney Diseases Special Emphasis Panel, April 16, 2020, 8:00 a.m. to April 16, 2020, 5:00 p.m., Doubletree Hotel Bethesda (formerly Holiday Inn Select), Conference Room Auburn, 8120 Wisconsin Avenue, Bethesda, MD 20814 which was published in the Federal Register on March 13, 2020, 85 FR 14688.

The meeting notice is amended to change the Meeting Format from Regular Meeting on April 16, 2020 to a Teleconference Meeting on April 16, 2020. The meeting is closed to the public.

Dated: March 19, 2020.
Miguelina Perez,
Program Analyst, Office of Federal Advisory Committee Policy.

[FR Doc. 2020-06200 Filed 3-24-20; 8:45 am]

BILLING CODE 4140-01-P